DEPARTMENT OF ENERGY

Federal Energy Regulatory Commission

Combined Notice of Filings

Take notice that the Commission has received the following Natural Gas Pipeline Rate and Refund Report filings:

Filings Instituting Proceedings

Docket Numbers: RP19-509-000.

Applicants: Central Kentucky Transmission Company.

Description: Penalty Revenue Crediting Report of Central Kentucky Transmission Company under RP19-509.

Filed Date: 12/28/18.

Accession Number: 20181228-5197.

Comments Due: 5 p.m. ET 1/9/19.

Docket Numbers: RP19-510-000.

Applicants: El Paso Natural Gas Company, L.L.C.

Description: eTariff filing per 660: Negotiated Rate Agreement Update (Conoco Jan 2019) to be effective 1/1/2019.

Filed Date: 12/28/18.

Accession Number: 20181228-5323.

Comments Due: 5 p.m. ET 1/9/19.

Docket Numbers: RP18-1167-001.

Applicants: Equitrans, L.P.

Description: eTariff filing per 1430: FERC Form No. 501-G to be effective N/A.

Filed Date: 12/28/18.

Accession Number: 20181228-5303.

Comments Due: 5 p.m. ET 1/9/19.

Docket Numbers: RP19-531-000.

Applicants: Equitrans, L.P.

Description: § 4(d) Rate Filing: Negotiated Capacity Release Agreements—1/1/2019 to be effective 1/1/2019.

Filed Date: 1/2/19.

Accession Number: 20190102-5056.

Comments Due: 5 p.m. ET 1/14/19.

Docket Numbers: RP19-532-000.

Applicants: East Tennessee Natural Gas, LLC.

Description: § 4(d) Rate Filing: ETNG—Wacker 410453 Release to Infinite Energy 661877 to be effective 1/1/2019.

Filed Date: 1/2/19.

Accession Number: 20190102-5066.

Comments Due: 5 p.m. ET 1/14/19.

Docket Numbers: RP19-533-000.

Applicants: Gulf South Pipeline Company, LP.

Description: § 4(d) Rate Filing: Cap Rel Neg Rate Agmts (Atlanta Gas 8438 to various eff 1-1-2019) to be effective 1/1/2019.

Filed Date: 1/2/19.

Accession Number: 20190102-5111.

Comments Due: 5 p.m. ET 1/14/19.

Docket Numbers: RP19-534-000.

Applicants: Texas Gas Transmission, LLC.

Description: § 4(d) Rate Filing: Cap Rel Neg Rate Agmts (PennEnergy 37579 to JERA 37702 to EDF 37706) to be effective 1/1/2019.

Filed Date: 1/2/19.

Accession Number: 20190102-5112.

Comments Due: 5 p.m. ET 1/14/19.

Docket Numbers: RP19-535-000.

Applicants: Texas Eastern Transmission, LP.

Description: § 4(d) Rate Filing: Negotiated Rate—CFE International Contract 911488 to be effective 1/15/2019.

Filed Date: 1/2/19.

Accession Number: 20190102-5117.

Comments Due: 5 p.m. ET 1/14/19.

Docket Numbers: RP19-536-000.

Applicants: Texas Eastern Transmission, LP.

Description: § 4(d) Rate Filing: Non-conforming Agreement—CFE International Contract 911488 to be effective 1/15/2019.

Filed Date: 1/2/19.

Accession Number: 20190102-5132.

Comments Due: 5 p.m. ET 1/14/19.

Docket Numbers: RP19-537-000.

Applicants: NEXUS Gas Transmission, LLC.

Description: § 4(d) Rate Filing: Negotiated Rates—Columbia Gas to Direct En 960059 to be effective 1/3/2019.

Filed Date: 1/2/19.

Accession Number: 20190102-5162.

Comments Due: 5 p.m. ET 1/14/19.

Docket Numbers: RP19-538-000.

Applicants: Rockies Express Pipeline LLC.

Description: § 4(d) Rate Filing: 2019-01-02 Housekeeping to be effective 1/3/2019.

Filed Date: 1/2/19.

Accession Number: 20190102-5222.

Comments Due: 5 p.m. ET 1/14/19.

Docket Numbers: RP19-539-000.

Applicants: Enable Gas Transmission, LLC.

Description: § 4(d) Rate Filing: Negotiated Rate Filing—January 1, 2019 SWEPCO 1006349 to be effective 1/1/2019.

Filed Date: 1/2/19.

Accession Number: 20190102-5274.

Comments Due: 5 p.m. ET 1/14/19.

Docket Numbers: RP19-540-000.

Applicants: Equitrans, L.P.

Description: § 4(d) Rate Filing: Expired Negotiated Rate Agreements to be effective 2/3/2019.

Filed Date: 1/3/19.

Accession Number: 20190103-5064.

Comments Due: 5 p.m. ET 1/15/19.

Docket Numbers: RP19-541-000.

Applicants: Millennium Pipeline Company, LLC.

Description: § 4(d) Rate Filing: Negotiated Rate Amgts—Interim Capacity to be effective 1/4/2019.

Filed Date: 1/3/19.

Accession Number: 20190103-5145.

Comments Due: 5 p.m. ET 1/15/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 4, 2019.
Nathaniel J. Davis, Sr.,
Deputy Secretary.

[FR Doc. 2019-00537 Filed 1-30-19; 8:45 am]

BILLING CODE 6717-01-P